NEIGHBORHOOD REINVESTMENT CORPORATION

Regular Board of Directors Meeting; Sunshine Act

TIME AND DATE: 1:00 p.m., Wednesday, February 14, 2018.

PLACE: NeighborWorks America—Gramlich Boardroom, 999 North Capitol Street NE, Washington DC 20002.

STATUS: Open (with the exception of Executive Sessions).

CONTACT PERSON: Rutledge Simmons, Acting EVP & General Counsel/Secretary, (202) 760-4105; RSimmons@nw.org.

AGENDA

I. Call to Order

II. Approval of Minutes

III. Executive Session: External Audit Presentation

IV. Executive Session: CEO Search Update

V. Executive Session: Internal Audit Update

VI. Executive Session: Report from Interim CEO

VII. Approval of External Audit

VIII. Approval of LIFT Funding Increase

IX. CMS Next Generation

X. Management Program Background and Updates

XI. Adjournment

The General Counsel of the Corporation has certified that in his opinion, one or more of the exemptions set forth in 5 U.S.C. 552(b)(2) and (4) permit closure of the following portion(s) of this meeting:

• External Audit Update

• Audit Committee Report

• Report from CEO

Rutledge Simmons,
Acting EVP & General Counsel/Corporate Secretary.

[FR Doc. 2018-01280 Filed 1-19-18; 4:15 pm]

BILLING CODE 7570-02-P